INTERNATIONAL TRADE COMMISSION

[Investigation 332-453]

Conditions of Competition for Milk Protein Products in the U.S. Market

AGENCY: United States International Trade Commission.

ACTION: Rescheduling of public hearing.

EFFECTIVE DATE: November 5, 2003.

SUMMARY: The public hearing on this matter, scheduled for December 4, 2003, has been rescheduled to December 11, 2003. The public hearing will be held at the U.S. International Trade Commission building, 500 E Street SW., Washington, DC, beginning at 9:30 a.m. on December 11, 2003. All interested persons will have the right to appear, by counsel or in person, to present information and to be heard. Requests to appear at the public hearing should be filed with the Secretary, United States International Trade Commission, 500 E Street SE., Washington, DC 20436, no later than 5:15 p.m., November 26, 2003. Any prehearing briefs (original and 14 copies) should be filed not later than 5:15 p.m., December 1, 2003; the deadline for filing post-hearing briefs or statements is 5:15 p.m., December 24, 2003.

FOR FURTHER INFORMATION CONTACT: Industry-specific information may be obtained from Mr. Jonathan Coleman, project leader (202-205-3465) or Mr. Warren Payne, deputy project leader (202-205-3317) of the Office of Industries, U.S. International Trade Commission, Washington, DC 20436. For information on the legal aspects of this investigation contact Mr. William Gearhart of the Office of the General Counsel (202-205-3091). Hearing impaired individuals are advised that information on this matter can be obtained by contacting the TDD Terminal on (202-205-1107).

SUPPLEMENTARY INFORMATION: This investigation is being conducted at the request of the Senate Committee on Finance in its letter of May 14, 2003. The Commission plans to submit its report by May 14, 2004. Notices of institution of the investigation and an earlier scheduled hearing date were published in the Federal Register of June 11, 2003 (68 FR 35004).

The Commission is particularly interested in receiving testimony with respect to the following:

(1) the end use applications of various milk protein products;

(2) the ability of different milk and non-milk proteins to substitute for each other in end use applications, considering both the functional and nutritional aspects that impact the substitutability of different proteins;

(3) the different production processes associated with various forms of milk protein and the impact of the production process on their nutritional and functional characteristics;

(4) the impact of U.S. government intervention on the profitability of commercial milk protein concentrate and casein production in the United States;

(5) the impact of imports of milk proteins on U.S. farm-level milk prices;

(6) the impact of foreign government intervention on the ability of imported milk proteins to compete in the U.S. market; and

(7) the global market for milk protein products, especially trade involving high-value or customized dairy products.

Written Submissions: As provided for in the Commission's prior notices, in lieu of or in addition to participating in the hearing, interested parties are invited to submit written statements (original and 14 copies) concerning the matters to be addressed by the Commission in its report on this investigation. Commercial or financial information that a person desires the Commission to treat as confidential must be submitted on separate sheets of paper, each clearly marked “Confidential Business Information” at the top. The Commission's Rules do not authorize filing of submissions with the Secretary by facsimile or electronic means. All submissions requesting confidential treatment must conform with the requirements of section 201.6 of the Commission's Rules of Practice and Procedure (19 CFR 201.6). All written submissions must conform with the provisions of section 201.8 of the Commission's Rules. The Commission's rules do not authorize filing submissions with the Secretary by facsimile or electronic means, except to the extent permitted by section 201.8 of the Commission's Rules (19 CFR 201.18) (see Handbook for Electronic Filing Procedures, ftp://FTP.usitc.gov/pub/reports/electronic_filing_hand-book.pdf). All written submissions, except for confidential business information, will be made available in the Office of the Secretary of the Commission for inspection by interested parties. To be assured of consideration by the Commission, written statements relating to the Commission's report should be submitted to the Commission at the earliest practical date and should be received no later than the close of business on December 24, 2003. All submissions should be addressed to the Secretary, United States International Trade Commission, 500 E Street SW., Washington, DC 20436.

Persons with mobility impairments who will need special assistance in gaining access to the Commission should contact the Office of the Secretary at (202-205-2000). General information concerning the Commission may also be obtained by accessing its Internet server (http://www.usitc.gov).

List of Subjects

Milk proteins, government intervention, tariffs, and imports.

Issued: November 6, 2003.
By order of the Commission.
Marilyn R. Abbott,
Secretary.

[FR Doc. 03-28426 Filed 11-12-03; 8:45 am]

BILLING CODE 7020-02-P